DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of November 4, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: June 20, 2016.
Roy E. Wright,
Deputy Associate Administrator for Insurance and Mitigation, Department of Homeland Security, Federal Emergency Management Agency.

I. Non-watershed-based studies:

Community | Community map repository address
Humboldt County, California and Incorporated Areas
Docket No.: FEMA-B-1511
City of Arcata | City of Arcata, 525 9th Street, Arcata, CA 95521.
City of Blue Lake | City of Blue Lake, 111 Greenwood Avenue, Blue Lake, CA 95525.
City of Eureka | Public Works Department, City Hall, 531 K Street, Eureka, CA 95501.
City of Ferndale | Public Works Department, 834 Main Street, Ferndale, CA 95536.
City of Fortuna | Fortuna City Hall, 621 11th Street, Fortuna, CA 95540.
Unincorporated Areas of Humboldt County | Clark Complex, 3015 H Street, Eureka, CA 95501.
Clinton County, Iowa and Incorporated Areas
Docket No.: FEMA-B-1532
City of Clinton | City Hall, 611 South 3rd Street, Clinton, IA 52732.
Muscatine County, Iowa and Incorporated Areas
Docket No.: FEMA-B-1529
City of Muscatine | City Hall, Community Development Department, 215 Sycamore Street, Muscatine, IA 52761.
Unincorporated Areas of Muscatine | Muscatine County Zoning Office, 3610 Park Avenue West, Muscatine, IA 52761.
Hennepin County, Minnesota and Incorporated Areas
Docket No.: FEMA-B-1284
City of Bloomington | Engineering Department, 1700 West 98th Street, Bloomington, MN 55431.
City of Brooklyn Center | City Hall, 6301 Shingle Creek Parkway, Brooklyn Center, MN 55430.
City of Brooklyn Park | City Hall, 5200 85th Avenue North, Brooklyn Park, MN 55443.
City of Champlin | City Hall, Building Department, 11955 Champlin Drive, Champlin, MN 55316.
City of Dayton | City Hall, 12260 South Diamond Lake Road, Dayton, MN 55327.
City of Eden Prairie | City Hall, 8080 Mitchell Road, Eden Prairie, MN 55344.
City of Edina | City Hall, 4801 West 50th Street, Edina, MN 55424.
City of Greenfield | City Hall, 7738 Commerce Circle, Greenfield, MN 55373.
City of Hanover | City Hall, 11250 Northeast 5th Street, Hanover, MN 55341.
City of Hopkins | City Hall, Planning and Zoning Office, 1010 1st Street South, Hopkins, MN 55343.
City of Independence | City Hall, 1920 County Road 90, Independence, MN 55359.
City of Long Lake | City Hall, 450 Virginia Avenue, Long Lake, MN 55356.
City of Minneapolis | City Hall, Public Works Office, 350 South 5th Street, Minneapolis, MN 55415.
City of Minnetonka | City Hall, 14600 Minnetonka Boulevard, Minnetonka, MN 55345.
City of Minnetrista | City Hall, 7701 County Road 110 West, Minnetrista, MN 55364.
City of Orono | City Hall, 2750 Kelley Parkway, Orono, MN 55356.
City of Plymouth | City Hall, 3400 Plymouth Boulevard, Plymouth, MN 55447.
City of Richfield | City Hall, 6700 Portland Avenue, Richfield, MN 55423.
City of Rockford | City Hall, 6031 Main Street, Rockford, MN 55373.
City of Rogers | City Hall, 22350 South Diamond Lake Road, Rogers, MN 55374.
City of St. Bonifacius | City Hall, 8535 Kennedy Memorial Drive, St. Bonifacius, MN 55375.
City of St. Louis Park | City Hall, Community Development, 5005 Minnetonka Boulevard, St. Louis Park, MN 55416.
City of Wayzata | City Hall, 600 Rice Street East, Wayzata, MN 55391.
Somerset County, New Jersey (All Jurisdictions)
Docket No.: FEMA-B-1532
Borough of Manville | Municipal Complex, 325 North Main Street, Manville, NJ 08835.
Borough of Millstone | Millstone Borough Hall, 1353 Main Street, Hillsborough, NJ 08844.
Borough of Rocky Hill | Municipal Building, 15 Montgomery Avenue, Rocky Hill, NJ 08553.
Township of Franklin | Township of Franklin Engineering Department, 475 Demott Lane, Somerset, NJ 08873.
Township of Hillsborough | Municipal Complex, Engineering Department, 379 South Branch Road, Hillsborough, NJ 08844.
Township of Montgomery | Township of Montgomery Municipal Offices, 2261 Route 206, Belle Mead, NJ 08502.

[FR Doc. 2016-17739 Filed 7-26-16; 8:45 am]

BILLING CODE 9110-12-P